DEPARTMENT OF HEALTH AND HUMAN SERVICES

National Institutes of Health

National Cancer Institute; Amended Notice of Meeting

Notice is hereby given of a change in the amended meeting of the National Cancer Advisory Board, September 7, 2016, 9:00 a.m. to September 7, 2016, 4:15 p.m., National Institutes of Health, Building 31, 31 Center Drive, Conference Room 10, Bethesda, MD, 20892 which was published in the Federal Register on August 17, 2016, 81 FR 54817.

This meeting notice has been amended to change the location of the meeting. The meeting will now be held at the National Cancer Institute, Shady Grove Campus, 9609 Medical Center Drive, East Wing, Conference Room TE406, Bethesda, Maryland, 20892. The open session has been amended to end at 2:45 p.m. The closed session has also been amended to begin at 3:00 p.m. and end at 4:15 p.m. The meeting is partially closed to the public.

Dated: August 17, 2016.
Melanie J. Gray,
Program Analyst, Office of Federal Advisory Committee Policy.

[FR Doc. 2016-20036 Filed 8-22-16; 8:45 am]

BILLING CODE 4140-01-P